DEPARTMENT OF COMMERCE

National Oceanic and Atmospheric Administration

RIN: 0648-XH24

South Atlantic Fishery Management Council; Public Meetings

AGENCY: National Marine Fisheries Service (NMFS), National Oceanic and Atmospheric Administration, Commerce.

ACTION: Notice of public hearings and scoping meetings.

SUMMARY: The South Atlantic Fishery Management Council (Council) will hold a series of public hearings and scoping meetings beginning in early May. Public hearings will be held for Amendment 16 to the Snapper Grouper Fishery Management Plan (FMP) for the South Atlantic, the Fishery Ecosystem Plan (FEP), and the Comprehensive Ecosystem Amendment (CEA). Public scoping will be held for Amendment 18 to the Snapper Grouper FMP for the South Atlantic. See SUPPLEMENTARY INFORMATION.

DATES: The series of 5 public scoping meetings will be held May 7-15, 2008. All scoping meetings will be open from 3 p.m.-7 p.m. Council staff and area Council members will be available for presentations, informal discussions, and to answer questions. Members of the public will have an opportunity to go on record at any time during the meeting hours to record their comments on the public hearing and scoping issues for Council consideration. Written comments must be received in the South Atlantic Council's office by 5 p.m. on May 16, 2008. See SUPPLEMENTARY INFORMATION.

ADDRESSES: Written comments should be sent to Bob Mahood, Executive Director, South Atlantic Fishery Management Council, 4055 Faber Place Drive, Suite 201, North Charleston, SC 29405, or via email to: SGAm16@safmc.net for Amendment 16 to the Snapper Grouper FMP; FEPComments@safmc.net for the Fishery Ecosystem Plan; CEAComments@safmc.net for the Comprehensive Ecosystem Amendment; and RedSnapperScoping@safmc.net for scoping comments regarding Amendment 18 to the Snapper Grouper FMP. Comments are due to the Council office by 5 p.m.on May 16, 2008. Copies of the public hearing and scoping documents are available from Kim Iverson, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION:

Meeting Dates and Locations

The public hearings and scoping meeting will be held at the following locations:

1. May 7, 2008-Key Largo Grande, 97000 South Overseas Highway, Key Largo, FL 33037, telephone: (866) 597-5397;

2. May 9, 2008-Radisson Resort at the Port, 8701 Astronaut Boulevard, Cape Canaveral, FL 32920, telephone: (321) 784-0000;

3. May 12, 2008-Mighty Eighth Air Force Museum, 175 Bourne Avenue, Pooler, GA 31322, telephone: (912) 748-8888;

4. May 13, 2008-Town & Country Inn, 2008 Savannah Highway, Charleston, SC 29407, telephone: (843) 571-1000; and

5. May 15, 2008-Sheraton New Bern, 100 Middle Street, New Bern, NC 28560, telephone: (252) 638-3585.

The public hearings and scoping will address overlapping fisheries issues for the South Atlantic region. Public hearings will be held on the following:

1. Amendment 16 to the Snapper Grouper FMP-updates management reference points for gag grouper and vermilion snapper, including Maximum Sustainable Yield (MSY), Optimum Yield (OY), and Minimum Stock Size Threshold (MSST), which reflect current scientific information as provided by stock assessments and approved by the Scientific and Statistical Committee. In addition, the amendment would either alter current management measures or implement new management measures that would reduce current harvest levels to yields associated with the optimum yield and end overfishing of both stocks in the South Atlantic. The Council will also specify interim allocations between the commercial and recreational sectors.

Alternatives under consideration include a January-April spawning season closure for gag grouper for both commercial and recreational sectors where no fishing for and/or possession of gag would be allowed. In addition, during the closure no fishing for and/or possession of the following species would be allowed: black grouper, red grouper, scamp, red hind, rock hind, yellowmouth grouper, tiger grouper, yellowfin grouper, graysby, and coney; dividing the commercial quota for gag grouper between two regions; reduction of the current 5-grouper aggregate bag limit for the recreational fishery; establishment of a directed commercial quota for vermilion snapper; adjusting recreational bag/size limits for vermilion snapper, and establishment of a recreational closed season for vermilion snapper. Amendment 16 also includes alternatives to reduce bycatch mortality by requiring the use of venting and dehooking tools and circle hooks to fish for snapper grouper species in the South Atlantic Exclusive Economic Zone (EEZ). Alternatives are also included for interim allocations for gag grouper and vermilion snapper.

2. Fishery Ecosystem Plan (FEP) for the South Atlantic and Comprehensive Ecosystem Amendment (CEA)-The Council is developing a Fishery Ecosystem Plan to act as a source document for various plan amendments. The CEA includes alternatives to amend the Coral FMP to establish deepwater coral Habitat Areas of Particular Concern (HAPCs) and address information updates and spatial requirements of the Essential Fish Habitat final rule. In addition, the CEA includes alternatives to amend the Golden Crab FMP to establish allowable golden crab fishing areas and require Vessel Monitoring Systems. Areas being considered for designation as HAPCs include: (a) Cape Lookout Lophelia Banks HAPC, (b) Cape Fear Lophelia Banks HAPC, (c) Blake Ridge Diapir, (d) the Stetson Reefs, Savannah and East Florida Lithoherms, and Miami Terrace HAPC, and (e) Portales Terrace HAPC. Alternatives also include proposals developed by the Council's Deepwater Shrimp Advisory Panel and Golden Crab Advisory Panel.

Public scoping will be held on the following:

Amendment 18 to the Snapper Grouper FMP-management measures necessary to end overfishing for red snapper in the South Atlantic region.

Special Accommodations

These meetings are physically accessible to people with disabilities. Requests for sign language interpretation or other auxiliary aids should be directed to the Council office (see ADDRESSES) by 3 days prior to the start of each meeting.

Dated: April 14, 2008.
Tracey L. Thompson,
Acting Director, Office of Sustainable Fisheries, National Marine Fisheries Service.

[FR Doc. E8-8286 Filed 4-16-08; 8:45 am]

BILLING CODE 3510-22-S